DEPARTMENT OF AGRICULTURE

National Agricultural Statistics Service

Notice of Intent To Reinstate a Previously Approved Information Collection

AGENCY: National Agricultural Statistics Service, USDA.

ACTION: Notice and request for comments.

SUMMARY: In accordance with the Paperwork Reduction Act of 1995 (Pub. L. 104-13) and Office of Management and Budget regulations at 5 CFR part 1320 (60 FR 44978, August 29, 1995), this notice announces the intention of the National Agricultural Statistics Service (NASS) to request reinstatement of a previously approved information collection, the National Childhood Injury and Occupational Injury Survey of Minority Farm Operators.

DATES: Comments on this notice must be received by September 10, 2003 to be assured of consideration.

ADDRESSES: Comments may be mailed to Ginny McBride, NASS OMB Clearance Officer, U.S. Department of Agriculture, Room 5336 South Building, 1400 Independence Avenue SW., Washington, DC 20250 or sent electronically to gmcbride@nass.usda.gov.

FOR FURTHER INFORMATION CONTACT: Carol House, Associate Administrator, National Agricultural Statistics Service, U.S. Department of Agriculture, (202) 720-4333.

SUPPLEMENTARY INFORMATION:

Title: National Childhood Injury and Occupational Injury Survey of Minority Farm Operators.

Previous OMB Control Number: 0535-0235.

Type of Request: Reinstatement of a Previously Approved Information Collection.

Abstract: The National Childhood Injury and Occupational Injury Survey of Minority Farm Operators is designed to: (1) Provide estimates of childhood nonfatal injury incidence and description of injury occurring to children less than 20 years of age who reside, work, or visit farms operated by minorities and (2) describe the occupational injury experience of adult minority farm operators and their workers. Data will be collected by telephone from all 50 states with 25,000 operations receiving a Childhood Injury version only and 25,000 receiving a combined Childhood Injury and Adult Occupational Injury version. Questions will relate to injury problems occurring during the 2003 calendar year. These data will update and enhance existing data series used by the National Institute of Occupational Safety and Health to: (1) Measure the number and rate of childhood injuries associated with minority farming operations and study the specific types of injuries sustained and (2) describe the scope and magnitude of adult occupational injuries associated with minority farming operations. The collection combines the youth and adult occupational injury studies to reduce the number of contacts on the targeted farm population. Reports on the findings of this study will be generated and information disseminated to all interested parties.

These data will be collected under the authority of 7 U.S.C. 2204(a). Individually identifiable data collected under this authority are governed by section 1770 of the Food Security Act of 1985, 7 U.S.C. 2276, which requires USDA to afford strict confidentiality to non-aggregated data provided by respondents.

Estimate of Burden: Public reporting burden for this collection of information is estimated to average 12 minutes per response for the childhood injury questions and 25 minutes for the combined interview. Demographic data will be collected from all respondents although screen-outs will be allowed early in both instruments if no injuries were incurred.

Respondents: Farm Operators.

Estimated Number of Respondents: 50,000.

Estimated Total Annual Burden on Respondents: 10,000 hours.

Copies of this information collection and related instructions can be obtained without charge from Ginny McBride, NASS OMB Clearance Officer, at (202) 720-5778.

Comments: Comments are invited on: (a) Whether the proposed collection of information is necessary for the proper performance of the functions of the agency, including whether the information will have practical utility; (b) the accuracy of the agency's estimate of the burden of the proposed collection of information including the validity of the methodology and assumptions used; (c) ways to enhance the quality, utility, and clarity of the information to be collected; and (d) ways to minimize the burden of the collection of information on those who are to respond, including through the use of appropriate automated, electronic, mechanical, or other technological collection techniques or other forms of information technology.

All responses to this notice will become a matter of public record and be summarized in the request for OMB approval.

Signed at Washington, DC, June 17, 2003.
Carol House,
Associate Administrator.

[FR Doc. 03-17041 Filed 7-3-03; 8:45 am]

BILLING CODE 3410-20-P